DEPARTMENT OF COMMERCE

Patent and Trademark Office

Agency Information Collection Activities; Submission to the Office of Management and Budget for Review and Approval; Comment Request; Representative and Address Provisions

AGENCY: United States Patent and Trademark Office, Department of Commerce.

ACTION: Notice of information collection; request for comments.

SUMMARY: The United States Patent and Trademark Office (USPTO) will submit the following information collection request to the Office of Management and Budget (OMB) for review and clearance in accordance with the Paperwork Reduction Act of 1995, on or after the date of publication of this notice. The USPTO invites comments on the information collection renewal of 0651-0035, which helps the USPTO assess the impact of its information collection requirements and minimize the reporting burden to the public. Public comments were previously requested via the Federal Register on May 21, 2025, during a 60-day comment period (90 FR 21760). This notice allows for an additional 30 days for public comments.

DATES: To ensure consideration, you must submit comments regarding this information collection on or before October 15, 2025.

ADDRESSES: Written comments and recommendations for this information collection should be submitted within 30 days of the publication of this notice on the following website, http://www.reginfo.gov/public/do/PRAMain. Find this particular information collection by selecting “Currently under 30-day Review—Open for Public Comments” or by using the search function and entering either the title of the information collection or the OMB Control Number, 0651-0035. Do not submit Confidential Business Information or otherwise sensitive or protected information.

FOR FURTHER INFORMATION CONTACT:

• This information collection request may be viewed at http://www.reginfo.gov/public/do/PRAMain. Follow the instructions to view the Department of Commerce, USPTO information collections currently under review by OMB.

• Email: InformationCollection@uspto.gov. Include “0651-0035 information request” in the subject line of the message.

• Mail: Justin Isaac, Office of the Chief Administrative Officer, United States Patent and Trademark Office, P.O. Box 1450, Alexandria, VA 22313-1450.

• Telephone: Jeffrey West, Senior Legal Advisor, 571-272-2226.

SUPPLEMENTARY INFORMATION:

Title: Representative and Address Provisions.

OMB Control Number: 0651-0035.

Abstract: This information collection includes the information necessary to submit a request to grant or revoke power of attorney for an application, patent, or reexamination proceeding, and for a registered practitioner to withdraw as attorney or agent of record. This also includes the information necessary to change the correspondence address for an application, patent, or reexamination proceeding, to request a Customer Number and manage the correspondence address and list of practitioners associated with a Customer Number, and to designate or change the correspondence address or fee address for one or more patents or applications by using a Customer Number.

Under 35 U.S.C. 2 and 37 CFR 1.31-1.32, a power of attorney may be granted to one or more joint inventors or a person who is registered to practice before the USPTO to act in an application or a patent. For an application filed before September 16, 2012, or for a patent which issued from an application filed before September 16, 2012, power of attorney may be granted by the applicant for a patent (as set forth in 37 CFR 1.41(b) (pre-AIA)) or the assignee of the entire interest of the applicant. For an application filed on or after September 16, 2012, or for a patent which issued from an application filed on or after September 16, 2012, power of attorney may be granted by the applicant for a patent (as set forth in 37 CFR 1.42) or the patent owner. The USPTO provides two different versions of most forms for establishing a power of attorney based upon whether the application was filed before September 16, 2012 or on or after September 16, 2012. Providing forms based upon whether the application was filed before September 16, 2012, or on or after September 16, 2012, reduces applicants' burden in having to determine the appropriate power of attorney requirements for a given application.

37 CFR 1.36 provides for the revocation of a power of attorney at any stage in the proceedings of a case. 37 CFR 1.36 also provides a path by which a registered patent attorney or patent agent who has been given a power of attorney may withdraw as attorney or agent of record.

A Customer Number is a unique number created by the USPTO and is used instead of a physical address. The Customer Number allows a group of filings to be associated with a single correspondence mailing address. The USPTO's Customer Number practice permits applicants, patent owners, assignees, and practitioners of record, or the representatives of record for a number of applications or patents, to change the correspondence address of a patent application or patent with one change request instead of filing separate requests for each patent or application. Any changes to the address or practitioner information associated with a Customer Number will be applied to all patents and applications associated with said Customer Number.

Changes of correspondence address or power of attorney may be filed separately for each patent or application without using a Customer Number. However, a valid Customer Number provides secure access to patent information through the registered USPTO.gov account using the USPTO patent electronic filing system (Patent Center), which is available through the USPTO website. Additionally, the use of a Customer Number is also required in order to grant power of attorney to more than ten practitioners or to establish a separate “fee address” for maintenance fee purposes that is different from the correspondence address for a patent or application.

Forms: (AIA = America Invents Act; SB = Specimen Book).

• PTO/AIA/80 (Power of Attorney to Prosecute Applications Before the USPTO)

• PTO/AIA/81 (Power of Attorney to One or More of the Joint Inventors and Change of Correspondence Address)

• PTO/AIA/81A (Patent—Power of Attorney or Revocation of Power of Attorney with a New Power of Attorney and Change of Correspondence Address)

• PTO/AIA/81B (Reexamination or Supplemental Examination—Patent Owner Power of Attorney or Revocation of Power of Attorney With a New Power of Attorney and Change of Correspondence Address for Reexamination or Supplemental Examination and Patent)

• PTO/AIA/82A (Transmittal for Power of Attorney To One Or More Registered Practitioners)

• PTO/AIA/82B; PTO/AIA/82C (Power of Attorney by Applicant)

• PTO/AIA/83 (Request for Withdrawal as Attorney or Agent and Change of Correspondence Address)

• PTO/SB/80 (Power of Attorney to Prosecute Applications Before the USPTO)

• PTO/SB/81 (Power of Attorney or Revocation of Power of Attorney with a New Power of Attorney and Change of Correspondence Address)

• PTO/SB/81A (Patent—Power of Attorney or Revocation of Power of Attorney with a New Power of Attorney and Change of Correspondence Address)

• PTO/SB/81B (Reexamination—Patent Owner Power of Attorney or Revocation of Power of Attorney with a New Power of Attorney and Change of Correspondence Address)

• PTO/SB/81C (Reexamination—Third Party Requester Power of Attorney or Revocation of Power of Attorney with a New Power of Attorney and Change of Correspondence Address)

• PTO/SB/83 (Request for Withdrawal as Attorney or Agent and Change of Correspondence Address)

• PTO/SB/124A (Request for Customer Number Data Change)

• PTO/SB/124B (Request for Customer Number Data Change; Practitioner Registration Number Supplemental Sheet)

• PTO/SB/125A (Request for Customer Number)

• PTO/SB/125B (Request for Customer Number; Practitioner Registration Number Supplemental Sheet)

• PTO-2248 (Request to Update a PCT Application With a Customer Number)

Type of Review: Extension and revision of a currently approved information collection.

Affected Public: Private sector.

Respondent's Obligation: Required to obtain or retain benefits.

Frequency: On occasion.

Estimated Number of Annual Respondents: 182,085 respondents.

Estimated Number of Annual Responses: 182,085 responses.

Estimated Time per Response: The USPTO estimates that the responses in this information collection will take the public approximately 12 minutes (0.20 hours) to 1.50 hours (90 minutes) to complete. This includes the time to gather the necessary information, create the document, and submit the completed item to the USPTO.

Estimated Total Annual Respondent Burden Hours: 88,922 hours.

Estimated Total Annual Respondent Non-Hourly Cost Burden: $24,698.

Justin Isaac,
Information Collections Officer, Office of the Chief Administrative Officer, United States Patent and Trademark Office.

[FR Doc. 2025-17767 Filed 9-12-25; 8:45 am]

BILLING CODE 3510-16-P